DEPARTMENT OF THE INTERIOR

Fish and Wildlife Service

Draft Environmental Assessment/Habitat Conservation Plan; Incidental Take Permit Amendment for the Struthers Ranch Property, Colorado Springs, El Paso County, CO

AGENCY: Fish and Wildlife Service, Interior.

ACTION: Notice of availability and receipt of application.

SUMMARY: WL Homes, LLC, doing business as John Laing Homes (Applicant), has applied to the Fish and Wildlife Service (Service) for an incidental take permit pursuant to section 10(a)(1)(B) of the Endangered Species Act (Act) of 1973, as amended. The requested permit amendment would authorize the incidental take of the federally threatened Preble's meadow jumping mouse, Zapus hudsonius preblei (Preble's), through loss and modification of its habitat associated with the expansion and amendment of the Struthers Ranch Property Environmental Assessment/Habitat Conservation Plan (EA/HCP) in El Paso County, Colorado. The EA/HCP is available for public review and comment. It fully describes the proposed project and the measures the Applicant would undertake to minimize and mitigate project impacts to the Preble's.

The Service requests comments on the EA/HCP and associated documents for the proposed issuance of the incidental take permit. All comments on the EA and permit amendment application will become part of the administrative record and will be available to the public.

DATES: Written comments on the permit amendment application and EA/HCP should be received on or before December 12, 2005.

ADDRESSES: Comments regarding the permit amendment application and EA/HCP should be addressed Susan Linner, Field Supervisor, U.S. Fish and Wildlife Service, Colorado Field Office, 755 Parfet Street, Suite 361, Lakewood, Colorado 80215. Comments also may be submitted by facsimile to (303) 275-2371. Individuals wishing copies of the EA/HCP and associated documents for review or public inspection should immediately contact the above office during normal business hours at the above address.

FOR FURTHER INFORMATION CONTACT: Adam Misztal, Fish and Wildlife Biologist, Colorado Field Office (see ADDRESSES above), telephone (303) 275-2377.

SUPPLEMENTARY INFORMATION:

Background

Section 9 of the Act (16 U.S.C. 1531 et seq.) and Federal regulations prohibit the “take” of a species listed as endangered or threatened. Take is defined under the Act, in part, as to kill, harm, or harass a federally listed species. However, the Service may issue permits to authorize “incidental take” of listed species under limited circumstances. Incidental take is defined under the Act as take of a listed species that is incidental to, and not the purpose of, the carrying out of an otherwise lawful activity under limited circumstances. Regulations governing permits for threatened species are promulgated in 50 CFR 17.32.

The Applicant currently holds a permit for incidental take of Preble's at the Struthers Ranch Property (69 FR 1998). The permit was issued on December 12, 2003, to Struthers Ranch Development, LLC, then transferred to the Applicant on January 28, 2005, and expires on January 28, 2035. The Struthers Ranch Property is located along Black Forest Creek southeast of the Town of Monument, El Paso County, Colorado. The Applicant, using the Service's definition of Preble's habitat, has determined that the proposed amended project would impact approximately 0.2 hectare (0.5 acre) of potential Preble's habitat, in addition to the 6.6 hectares (16.4 acres) of impacts from the original project, and may result in incidental take of the Preble's in an area that may be periodically used as foraging, breeding or hibernation habitat.

An HCP has been developed as part of the preferred alternative. Three other alternatives to this action were considered and rejected because the environmental impacts would be greater than, or similar to, the proposed action, but would not provide as great a conservation benefit as the proposed action, and/or were not economically viable. The draft EA analyzes the onsite, offsite, and cumulative impacts of the proposed project and all associated development and construction activities and mitigation activities on the Preble's, and also on other threatened or endangered species, vegetation, wildlife, wetlands, geology/soils, land use, water resources, air and water quality, and cultural resources.

Only the threatened Preble's occurs on site and has the potential to be adversely affected by the project. Activities proposed to be covered by the EA/HCP amendment are a larger box culvert crossing over Black Forest Creek, new road alignment, and relocation and/or additional placement of rip-rap used to stabilize the drainage. Measures will be taken during construction to minimize impact to the habitat, including the use of silt fencing to reduce the amount of sediment from construction activities that reaches the creek. Mitigation is planned for approximately 0.2 hectare (0.5 acre) in addition to the 14.4 hectares (35.5 acres) of varying amounts of restoration, enhancement, and creation of on-site upland and riparian Preble's habitat as described in the original HCP. Limited enhancement has already occurred on 3.3 hectares (8.1 acres) of uplands from the removal of cattle grazing to encourage existing native grass recovery. This results in a mitigation ratio of 2.14:1 for temporary impacts as well as permanent impacts. The mitigation will likely provide a net benefit to the Preble's and other wildlife by improving and creating new riparian areas, planting of native shrubs and grasses, and protecting the habitat corridor along Black Forest Creek from any future development. All of the proposed mitigation area is within the boundaries of the Struthers Ranch property, all of which is included in the drainage basin of Black Forest Creek.

We will evaluate the permit amendment application, the EA/HCP, and comments submitted therein to determine whether the application meets the requirements of section 10(a) of the Act. If it is determined that those requirements are met, a permit amendment will be issued for the incidental take of the Preble's in conjunction with the Struthers Ranch Property. The final permit decision will be made no sooner than 30 days after the date of this notice.

Dated: October 14, 2005.
Ralph O. Morgenweck,
Regional Director, Region 6.

[FR Doc. 05-22439 Filed 11-9-05; 8:45 am]

BILLING CODE 4310-55-P